DEPARTMENT OF HOMELAND SECURITY

Office of the Secretary

[Docket No. DHS-2015-0037]

Privacy Act of 1974; Department of Homeland Security/ALL-014 Personnel Emergency Contact Information System of Records

AGENCY: Department of Homeland Security, Privacy Office.

ACTION: Notice of Privacy Act system of records.

SUMMARY: In accordance with the Privacy Act of 1974, the Department of Homeland Security proposes to rename, update, and reissue a current Department of Homeland Security system of records notice previously titled, “Department of Homeland Security/ALL-014 Emergency Personnel Location Records” with a new Department of Homeland Security system of records notice titled, “Department of Homeland Security/ALL-014 Personnel Emergency Contact Information System of Records.” This system of records allows the Department of Homeland Security (DHS) to collect and maintain necessary records concerning DHS personnel (including Federal employees and contractors) for workforce accountability; federal employees, contractors, or other individuals who participate in or who respond to all-hazards emergencies including technical, manmade, or natural disasters, or who participate in emergency response training exercises; and individuals identified as emergency points of contact. As a result of a biennial review of this system, DHS is updating this system of records notice to include changes within the: system name, categories of individuals, categories of records, authority for maintenance, purpose, and retention and disposal. Additionally, this notice includes non-substantive changes to simplify the formatting and text of the previously published notice. This updated system will be included in the Department's inventory of record systems.

DATES: Submit comments on or before August 25, 2016.

ADDRESSES: You may submit comments, identified by docket number DHS-2015-0037 by one of the following methods:

• Federal e-Rulemaking Portal: http://www.regulations.gov. Follow the instructions for submitting comments. This updated system will be effective August 25, 2016.

• Fax: 202-343-4010.

• Mail: Karen L. Neuman, Chief Privacy Officer, Privacy Office, Department of Homeland Security, Washington, DC 20528-0655.

Instructions: All submissions received must include the agency name and docket number for this rulemaking. All comments received will be posted without change to http://www.regulations.gov, including any personal information provided.

Docket: For access to the docket, to read background documents, or comments received go to http://www.regulations.gov.

FOR FURTHER INFORMATION CONTACT: For general questions and privacy issues please contact: Karen L. Neuman, 202-343-1717, Chief Privacy Officer, Privacy Office, Department of Homeland Security, Washington, DC 20528-0655.

SUPPLEMENTARY INFORMATION:

I. Background

In accordance with the Privacy Act of 1974, 5 U.S.C. 552a as amended, the Department of Homeland Security (DHS) proposes to rename, update, and reissue a current DHS system of records notice titled, “DHS/ALL-014 Personnel Emergency Contact Information System of Records.” This system of records allows DHS to collect and maintain necessary records concerning current and former DHS personnel (including Federal employees and contractors) for workforce accountability; Federal employees, contractors or other individuals who participate in or who respond to all-hazards emergencies including technical, manmade, or natural disasters, or who participate in emergency response training exercises; and individuals identified as emergency points of contact. DHS collects information of family members, next of kin, or other designated emergency contact persons for use in the event of an emergency.

As a result of a biennial review of this system, DHS is updating this system of records notice to include changes within the: (1) System name, (2) categories of individuals, (3) categories of records, (4) authority for maintenance, (5) purpose, and (6) retention and disposal. The system is renamed Personnel Emergency Contact Information System of Records to clarify that this system of records stores contact information about all current and former DHS personnel and individuals they have identified as emergency contacts or next of kin. The updated categories of individuals describes the four types of individuals maintained within this system of records: current and former DHS personnel, including Federal employees and contractors; current and former Federal employees, contractors, or other individuals who participate in or conduct exercises; current and former Federal employees, contractors, or other individuals who respond to all hazards emergencies including technical, manmade, or natural disasters; and individuals that current or former DHS personnel have identified as emergency points of contact, including family members and next of kin. The updated categories of records have been expanded to include information collected during a response to all-hazards emergencies and deployment of personnel during such responses. The legal authorities have been updated to include the appropriate sections of the Robert T. Stafford Act and the Post-Katrina Emergency Management Reform Act relevant to the deployment of individuals for emergency response. The purpose of the system has been broadened to increase transparency and clarity on why the information is being collected and how it is used. In addition to contacting individuals and emergency contacts, the information is also used to facilitate the response and deployment of DHS and non-DHS personnel to all-hazards emergencies. Lastly, the retention and disposal have been updated to address the retention of deployment-related records.

In the course of responding to, or planning for, all-hazards emergencies, DHS may contact, locate, and deploy current and former DHS personnel; implement the Continuity of Operations (COOP) Plan; and participate in exercises. This system of records encompasses the collection, storage, and use of information associated with such activities and for all individuals that participate in those activities. Additionally, for emergency notification purposes, DHS may need to contact the identified emergency contacts of the individual.

Consistent with DHS's information sharing mission, information stored in the DHS/ALL-014 Personnel Emergency Contact Information System of Records may be shared with other DHS Components that have a need to know the information to carry out their national security, law enforcement, immigration, intelligence, or other homeland security functions. In addition, information may be shared with appropriate Federal, State, local, tribal, territorial, foreign, or international government agencies consistent with the routine uses set forth in this system of records notice. This updated system will be included in the Department's inventory of record systems.

II. Privacy Act

The Privacy Act embodies fair information practice principles in a statutory framework governing the means by which Federal government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy, DHS extends administrative Privacy Act protections to all individuals when systems of records maintain information on U.S. citizens, lawful permanent residents, and visitors.

Below is a description of the DHS/ALL-014 Personnel Emergency Contact Information System of Records.

In accordance with 5 U.S.C. 552a(r), DHS has provided a report of this revised system of records to the Office of Management and Budget and to Congress.

System of Records:

Department of Homeland Security (DHS)/ALL-014

System name:

DHS/ALL-014 Department of Homeland Security Personnel Emergency Contact Information.

Security classification:

Unclassified.

System location:

Records are maintained at Headquarters locations and in Component offices of DHS, in both Washington, DC and field locations. Personnel emergency contact information is typically maintained locally by individual DHS offices.

Categories of individuals covered by the system:

Categories of individuals in this system include:

• Current and former DHS personnel, including Federal employees and contractors;

• Current and former Federal employees, contractors, or other individuals who participate in or conduct exercises;

• Current and former federal employees, contractors, or other individuals who respond to all hazards emergencies including technical, manmade, or natural disasters; and

• Individuals that current or former DHS personnel have identified as emergency points of contact, including family members and next of kin.

Categories of records in the system:

Categories of records related to current and former DHS personnel, including Federal employees and contractors, and individuals identified as emergency points of contact may include:

• Name;

• Work contact information (address, email address, phone, fax);

• Personal contact information (address, email address, phone numbers, pager number, and pin number);

• Company/organization name;

• Supervisor name and contact information; and

• Relationship to current or former DHS personnel.

Categories of records related to Federal employees, contractors or other individuals who participate in or who respond to all-hazards emergencies including technical, manmade or natural disasters, or who participate in emergency response training exercises may include:

• Name;

• Social Security number;

• Date of birth;

• Identifiers related to deployment;

• Height, weight, and other personal characteristics, if applicable;

• Work contact information (address, email address, phone, fax);

• Personal contact information (address, email address, phone numbers, pager number, and pin number);

• Deployment contact information (lodging address and phone number) while deployed;

• Company/organization name and organization code;

• Job information (position title, start date, duty status, pay status, and employment type);

• Supervisor name and contact information;

• Deployment point of contact name and contact information;

• Approvals, authorizations, certifications, and proficiency levels for training and deployment;

• Information on deployment position (program area, position type);

• Status of credentials for access to regulated facilities;

• Status of Government Credit Card (yes or no);

• Clearance and access level;

• Deployment information (duty station, dates, and lodging);

• Skills inventory, qualifications, specialties, and proficiency levels;

• Volunteered medical information;

• Emergency response group/non-emergency response group status; and

• Emergency recall rosters.

Authority for maintenance of the system:

The Homeland Security Act of 2002, 6 U.S.C. 313, 314, 317, 320, and 711; Robert T. Stafford Disaster Relief and Emergency Assistance Act, as amended, 42 U.S.C. 5144, 5149, 5170b, 5192, and 5197.

Purpose(s):

The purpose of this system is for DHS workforce accountability, to support DHS all-hazards emergency response deployments and exercises, and to contact designated persons in the event of an emergency.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (DOJ), including Offices of the U.S. Attorneys, or other Federal agency conducting litigation or in proceedings before any court, adjudicative, or administrative body, when it is relevant or necessary to the litigation and one of the following is a party to the litigation or has an interest in such litigation:

1. DHS or any component thereof;

2. Any employee or former employee of DHS in his/her official capacity;

3. Any employee or former employee of DHS in his/her individual capacity when the DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise there is a risk of identity theft or fraud, harm to economic or property interests, harm to an individual, or harm to the security or integrity of this system or other systems or programs (whether maintained by DHS or another agency or entity) that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To a Federal, State, tribal, or local agency, if the information is relevant and necessary, for the requesting agency's approval on the issuance of a security clearance or for the purpose of providing support in an all hazards emergencies including technical, manmade, or natural disasters.

I. To Federal, State, tribal, local, international, or foreign governmental agencies or executive offices, relief agencies, and non-governmental organizations, when disclosure is appropriate for performance of the official duties required in response to all-hazards including technical, manmade, or natural disasters.

J. To identified emergency contacts of:

1. Current and former DHS personnel, including Federal employees and contractors;

2. Current and former Federal employees, contractors, or other individuals who participate in or conduct exercises; or

3. Current and former Federal employees, contractors, or other individuals who respond to all hazards emergencies including technical, manmade, or natural disasters.

K. To the news media and the public, with the approval of the Chief Privacy Officer in consultation with counsel, when there exists a legitimate public interest in the disclosure of the information or when disclosure is necessary to preserve confidence in the integrity of DHS, or when disclosure is necessary to demonstrate the accountability of DHS's officers, employees, or individuals covered by the system, except to the extent the Chief Privacy Officer determines that release of the specific information in the context of a particular case would constitute an unwarranted invasion of personal privacy.

Disclosure to consumer reporting agencies:

None.

Policies and practices for storing, retrieving, accessing, retaining, and disposing of records in the system:

Storage:

DHS stores records in this system electronically or on paper in secure facilities in a locked drawer behind a locked door. The records are stored on magnetic disc, tape, and digital media.

Retrievability:

DHS may retrieve records by an individual's name, location, or other personal identifier.

Safeguards:

DHS safeguards records in this system in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

Records relating to current and former DHS employees, and individuals designated as emergency points of contact, will be destroyed within one year after separation or transfer of the employee, in accordance with National Archives and Records Administration (NARA) General Records Schedule 1, Item 18. Federal Emergency Management Agency Records Schedule EOM-16, which will cover records related to deployment activities, will be submitted by FEMA to NARA for review and approval. FEMA proposes that records related to deployment activities be considered temporary records with a cutoff at the end of each calendar year and are destroyed 50 years after the cutoff date.

System Manager and address:

The System Manager is the Director, Office of Operations Coordination (OPS), Department of Homeland Security, Washington, DC 20528.

Notification procedure:

Individuals seeking notification of, and access to, any record contained in this system of records, or seeking to contest its content, may submit a request in writing to the Headquarters' or component's FOIA Officer, whose contact information can be found at http://www.dhs.gov/foia-contact-information. If an individual believes more than one component maintains Privacy Act records concerning him or her the individual may submit the request to the Chief Privacy Officer, Department of Homeland Security, 245 Murray Drive SW., Building 410, STOP-0655, Washington, DC 20528.

When seeking records about yourself from this system of records or any other Departmental system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov or 1-866-431-0486. In addition you should:

• Explain why you believe the Department would have information on you;

• Identify which component(s) of the Department you believe may have the information about you;

• Specify when you believe the records would have been created; and

• Provide any other information that will help the FOIA staff determine which DHS component agency may have responsive records.

If your request is seeking records pertaining to another living individual, you must include a statement from that individual certifying his or her agreement for you to access his or her records.

Without this bulleted information the component(s) may not be able to conduct an effective search, and your request may be denied due to lack of specificity or lack of compliance with applicable regulations.

Record access procedures:

See “Notification procedure” above.

Contesting record procedures:

See “Notification procedure” above.

Record Source Categories:

Information contained in this system is obtained from DHS personnel (including Federal employees and contractors), individuals who participate in or conduct exercises or who respond to all hazards emergencies including technical, manmade, or natural disasters; and other government agencies.

Exemptions claimed for the system:

None.

Dated: July 20, 2016.
Jonathan Cantor,
Acting Chief Privacy Officer, Department of Homeland Security.

[FR Doc. 2016-17597 Filed 7-25-16; 8:45 am]

BILLING CODE 9110-9B-P